DEPARTMENT OF ENERGY

Federal Energy Regulatory Commission

[Docket No. RP03-267-000]

Northern Natural Gas Company; Notice of Proposed Changes in FERC Gas Tariff

March 4, 2003.

Take notice that Northern Natural Gas Company (Northern) on February 28, 2003, tendered for filing to become part of Northern's FERC Gas Tariff, the following tariff sheets proposed to be effective on April 1, 2003:

Fifth Revised Volume No. 1

Fifth Revised Sheet No. 200

First Revised Sheet No. 206A

Fifth Revised Sheet No. 221

Fourth Revised Sheet No. 222

Original Sheet No. 222A

First Revised Sheet No. 254

Sheet No. 486

Northern states that the reason for the instant filing is to provide for the electronic contracting for service under rate schedules in Northern's FERC Gas Tariff. Northern's new contracting system, which will be implemented on or about April 1, 2003, will enable Northern and its shippers to enter into contracts via Northern's Internet website.

Northern further states that copies of the filing have been mailed to each of its customers and interested State Commissions.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-5663 Filed 3-10-03; 8:45 am]

BILLING CODE 6717-01-P